FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
008790N | A.S.A.P. Transport Ltd., 2414 Morris Avenue, Union, NJ 07083 | January 5, 2006.
018793F | Berr International, Inc., 8344 NW 30th Terrace, Miami, FL 33122 | December 17, 2005.
003722N | Falcon Transportation & Forwarding Corp., 500 Bi-County Boulevard, Suite 203N, Farmingdale, NY 11735 | November 20, 2005.
018249N | JJB Trucking Services Corp. & Shipping, 333 N. Broad Street, Elizabeth, NJ 07200 | December 2, 2005.

Sandra L. Kusumoto,
Director, Bureau of Certification and Licensing.

[FR Doc. E6-1714 Filed 2-7-06; 8:45 am]

BILLING CODE 6730-01-P